DEPARTMENT OF ENERGY

Federal Energy Regulatory Commission

[Project No. 13567-001]

City of Guttenberg; Notice of Successive Preliminary Permit Application Accepted for Filing and Soliciting Comments, Motions To Intervene, and Competing Applications

On July 2, 2013, the City of Guttenberg filed an application for a successive preliminary permit, pursuant to section 4(f) of the Federal Power Act (FPA), proposing to study the feasibility of the Guttenberg Water Power Project to be located on the Mississippi River, near the township of Guttenberg, in Clayton County, Iowa. The sole purpose of a preliminary permit, if issued, is to grant the permit holder priority to file a license application during the permit term. A preliminary permit does not authorize the permit holder to perform any land-disturbing activities or otherwise enter upon lands or waters owned by others without the owners' express permission.

The proposed project would consist of the following: (1) An existing 140-foot-wide by 280-foot-long auxiliary lock; (2) a new 110-foot-wide by 250-foot-long concrete powerhouse containing four new 5-mega-watt (MW) pit-type horizontal turbine units for a total capacity of 20 MW; (3) an existing local step-up transformer; (4) a new 300-foot-long, 69-kilovolt (kV) transmission line extending from the local transformer to the local grid (the point of interconnection) which is owned and operated by the City of Guttenberg; and (5) appurtenant facilities. The estimated annual generation of the Guttenberg Water Power Project would be 63,400 megawatt-hours.

Applicant Contact: Mr. Barry Dykhuizen, City of Guttenberg, P.O. Box 580, 502 S. 1st Street, Guttenberg, IA 52052-0580; phone: (563) 252-1161, extension 109.

FERC Contact: Tyrone Williams; phone: (202) 502-6331.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13567-001.

More information about this project, including a copy of the application, can be viewed or printed on the “eLibrary” link of Commission's Web site at http://www.ferc.gov/docs-filing/elibrary.asp. Enter the docket number (P-13567) in the docket number field to access the document. For assistance, contact FERC Online Support.

Dated: October 10, 2013.
Nathaniel J. Davis, Sr.,
Deputy Secretary.

[FR Doc. 2013-24480 Filed 10-17-13; 8:45 am]

BILLING CODE 6717-01-P